OVERSEAS PRIVATE INVESTMENT CORPORATION

Sunshine Act Meeting Cancellation Notice—OPIC November 28, 2012 Public Hearing

OPIC's Sunshine Act notice of its Public Hearing in Conjunction with each Board meeting was published in the Federal Register (Volume 77, Number 221, Pages 68162 and 68163) on November 15, 2012. No requests were received to provide testimony or submit written statements for the record; therefore, OPIC's public hearing scheduled for 2 p.m., November 28, 2012 in conjunction with OPIC's December 6, 2012 Board of Directors meeting has been cancelled.

Contact Person for Information: Information on the hearing cancellation may be obtained from Connie M. Downs at (202) 336-8438, or via email at Connie.Downs@opic.gov.

Dated: November 21, 2012.
Connie M. Downs,
OPIC Corporate Secretary.

[FR Doc. 2012-28754 Filed 11-21-12; 4:15 pm]

BILLING CODE 3210-01-P